DEPARTMENT OF THE INTERIOR

Fish and Wildlife Service

[FWS-R9-FHC-2009-N156; 94300-1122-0000-Z2]

Wind Turbine Guidelines Advisory Committee; Announcement of Public Meeting

AGENCY: Fish and Wildlife Service, Interior.

ACTION: Notice of public meeting.

SUMMARY: We, the U.S. Fish and Wildlife Service (Service), will host a Wind Turbine Guidelines Advisory Committee (Committee) meeting September 1-3, 2009. The meeting is open to the public. The meeting agenda will include reports from the Legal and Synthesis Subcommittees, and discussion of the current draft Recommendations to the Secretary.

DATES: The meeting is scheduled for September 1-3, 2009. The sessions will be 8 a.m. to 5:30 p.m. September 1-2, and 8 a.m. to 3:30 p.m. September 3.

ADDRESSES: We will hold the meeting at the U.S. Fish and Wildlife Service, 4401 N. Fairfax Drive, Rooms 200A & B, Arlington, Virginia, 22203. For more information, see “Meeting Location Information.”

FOR FURTHER INFORMATION CONTACT: Rachel London, Division of Habitat and Resource Conservation, U.S. Fish and Wildlife Service, (703) 358-2161.

SUPPLEMENTARY INFORMATION:

Background

On October 24, 2007, the Secretary of the Interior (Secretary) established the Committee to provide advice and recommendations to the Secretary on developing effective measures to avoid or minimize impacts to wildlife and their habitats related to land-based wind energy facilities. The Committee is made up of 22 members representing the varied interests associated with wind energy development and its potential impacts to wildlife species and their habitats. All Committee meetings are open to the public.

Meeting Location Information

Please note that the meeting location is accessible to wheelchair users. If you require additional accommodations, please notify us at least 2 weeks in advance of the meeting.

Persons planning to attend the meeting must register at http://www.fws.gov/habitatconservation/windpower/wind_turbine_advisory_committee.html, by August 26, 2009. Seating is limited due to room capacity. We will give preference to registrants based on date and time of registration. Limited standing room will be available if all seats are filled.

Dated: August 4, 2009.
Rachel London,
Alternate Designated Federal Officer, Wind Turbine Guidelines Advisory Committee.

[FR Doc. E9-19009 Filed 8-6-09; 8:45 am]

BILLING CODE 4310-55-P